ENVIRONMENTAL PROTECTION AGENCY

40 CFR Part 52

[Region II Docket No. R02-OAR-2004-NY-0002, FRL-7851-1]

Approval and Promulgation of Implementation Plans; New York; Low Emission Vehicle Program

AGENCY: Environmental Protection Agency (EPA).

ACTION: Final rule.

SUMMARY: The Environmental Protection Agency is approving a New York State State Implementation Plan (SIP) revision to revise its existing low emission vehicle (LEV) program. The State's revision adopts California's second generation low emission vehicle program for light-duty vehicles (LEV II). New York has revised its LEV rule to include a non-methane hydrocarbon standard and various administrative and grammatical changes to make its existing LEV rule identical to California's LEV II program. The intended effect of this rulemaking is to approve a control strategy which will result in emissions reductions that will help achieve attainment of national ambient air quality standards for ozone.

DATES: Effective Date: This rule will be effective March 2, 2005.

ADDRESSES: Copies of the state submittal are available at the following addresses for inspection during normal business hours:

Environmental Protection Agency, Region 2 Office, Air Programs Branch, 290 Broadway, 25th Floor, New York, New York 10007-1866.

Environmental Protection Agency, Air and Radiation Docket and Information Center, Air Docket (6102), 401 M Street, SW., Washington, DC 20460.

New York State Department of Environmental Conservation, Office of Air and Waste Management, 14th Floor, 625 Broadway, Albany, New York 12233-1010.

FOR FURTHER INFORMATION CONTACT: David Risley, Air Programs Branch, Environmental Protection Agency, 290 Broadway, 25th Floor, New York, New York 10007-1866, (212) 637-4249 or risley.david@epa.gov.

SUPPLEMENTARY INFORMATION:

Table of Contents

I. Description of the SIP Revision

II. Public Comments on the Proposed Action

III. Final EPA Action

IV. Administrative Requirements

I. Description of the SIP Revision

In 1994, New York requested EPA to revise its SIP to include a LEV program. EPA approved that SIP revision on January 6, 1995 (60 FR 2022). At the time, New York's LEV program was identical to California's first-generation LEV program. More recently, New York has updated its LEV program to be identical to California's LEV II program. New York has adopted California's LEV II program by reference in the New York State Code of Rules and Regulations part 218, “Emission Standards for Motor Vehicles and Motor Vehicle Engines.”

New York has requested that EPA take action on its revised LEV program. EPA has already approved the emissions reduction credits from the revised LEV program as part of our approval of New York's attainment demonstration SIP revision on February 4, 2002 (67 FR 5170). In the current SIP revision, New York requested Federal approval of the LEV program regulation. EPA's approval of New York's LEV program makes it Federally-enforceable, further ensuring that planned emissions reductions will continue to take place. For further information on the specifics of New York's LEV program see the September 24, 2004 Notice of Proposed Rulemaking (69 FR 57241).

II. Public Comments on the Proposed Action

No comments were received on the Notice of Proposed Rulemaking, published in the September 24, 2004 Federal Register (69 FR 57241).

III. Final EPA Action

EPA is approving the light-duty portion of New York's LEV program, which is identical to California's LEV II program. The LEV program that EPA is approving is contained in title 6, part 218, subparts 218-1, 218-2, 218-3, 218-5, 218-6, 218-7 and 218-8 of the Official Compilation of Codes, Rules and Regulations of the State of New York. Approval of New York's LEV program further ensures that planned emissions reductions attributable to this program will be achieved. These reductions are necessary for New York to achieve its clean air goals, as detailed in the State's 1-hour ozone attainment demonstration SIP. The updated program was filed on November 28, 2000 and adopted on December 28, 2000, as noticed in the New York State Register.

IV. Administrative Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves state law as meeting Federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4).

This rule also does not have tribal implications because it will not have a substantial direct effect on one or more Indian tribes, on the relationship between the Federal Government and Indian tribes, or on the distribution of power and responsibilities between the Federal Government and Indian tribes, as specified by Executive Order 13175 (65 FR 67249, November 9, 2000). This action also does not have Federalism implications because it does not have substantial direct effects on the States, on the relationship between the national government and the States, or on the distribution of power and responsibilities among the various levels of government, as specified in Executive Order 13132 (64 FR 43255, August 10, 1999). This action merely approves a state rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2).

Under section 307(b)(1) of the Clean Air Act, petitions for judicial review of this action must be filed in the United States Court of Appeals for the appropriate circuit by April 1, 2005. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Carbon monoxide, Intergovernmental relations, Nitrogen dioxide, Ozone, Reporting and recordkeeping requirements, Volatile organic compounds.

Dated: November 23, 2004.
Kathleen C. Callahan,
Acting Regional Administrator, Region 2.

Part 52, chapter I, title 40 of the Code of Federal Regulations is amended as follows:

PART 52—[AMENDED]

1. The authority citation for part 52 continues to read as follows:

Authority: 42 U.S.C. 7401 et seq.

Subpart HH—New York

2. Section 52.1670 is amended by adding new paragraph (c)(107) to read as follows:

§ 52.1670 Identification of plan.

* * * * *

(c) * * *

* * * * *

(107) Revisions to the State Implementation Plan submitted on December 9, 2002, by the New York State Department of Environmental Conservation which consists of the adoption of California's second generation Low Emissions Vehicle (LEV) program.

(i) Incorporation by reference.

(A) Regulation part 218 “Emissions Standards for Motor Vehicles and Motor Vehicle Engines” of Title 6 of the Official Compilation of Codes, Rules and Regulations of the State of New York (6NYCRR), part 218, subparts 218-1, 218-2, 218-3, 218-5, 218-6, 218-7 and 218-8 filed on November 28, 2000 and effective on December 28, 2000.

3. Section 52.1679 is amended by revising the entry for part 218 under title 6 to read as follows:

§ 52.1679 EPA-approved New York State regulations.

New York State regulation | State effective date | Latest EPA approval date | Comments
Title 6
* * * * * * *
Part 218, Emission Standards for Motor Vehicles and Motor Vehicle Engines: |  |  | EPA's approval of part 218 only applies to light-duty vehicles.
Subpart 218-1: Applicability and Definitions | 12/28/00 | 1/31/05, [insert FR citation of this document].
Subpart 218-2: Certification and Prohibitions | 12/28/00 | 1/31/05, [insert FR citation of this document].
Subpart 218-3: Fleet Average | 12/28/00 | 1/31/05, [insert FR citation of this document].
Subpart 218-4: Zero Emissions Vehicle Sales Mandate | 5/28/92 | 1/6/95, 60 FR 2025.
Subpart 218-5: Testing | 12/28/00 | 1/31/05, [insert FR citation of this document].
Subpart 218-6: Surveillance | 12/28/00 | 1/31/05, [insert FR citation of this document].
Subpart 218-7: Aftermarket Parts | 12/28/00 | 1/31/05, [insert FR citation of this document].
Subpart 218-8: Severability | 12/28/00 | 1/31/05, [insert FR citation of this document].
* * * * * * *

[FR Doc. 05-1630 Filed 1-28-05; 8:45 am]

BILLING CODE 6560-50-P